UNITED STATES INTERNATIONAL TRADE COMMISSION

[USITC SE-01-001]

Notice of Sunshine Meeting

AGENCY HOLDING THE MEETING: United States International Trade Commission.

TIME AND DATE: January 12, 2001 at 11 a.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-624-625 (Review)(Helical Spring Lock Washers from China and Taiwan)—briefing and vote. (The Commission is currently scheduled to transmit its determination and Commissioners' opinions to the Secretary of Commerce on January 25, 2001.)

5. Inv. Nos. 731-TA-470-472 (Review)(Silicon Metal from Argentina, Brazil, and China)—briefing and vote. (The Commission is currently scheduled to transmit its determination and Commissioners' opinions to the Secretary of Commerce on January 25, 2001.)

6. Inv. Nos. 731-TA-671-673 (Review)(Silicomanganese from Brazil, China, and Ukraine)—briefing and vote. (The Commission is currently scheduled to transmit its determination and Commissioners' opinions to the Secretary of Commerce on January 25, 2001.)

7. Outstanding action jackets: none.

In accordance with Commission policy, subject matter listed above, not disposed of at the scheduled meeting, may be carried over to the agenda of the following meeting.

By order of the Commission.
Issued: January 2, 2001.
Donna R. Koehnke,
Secretary.

[FR Doc. 01-578 Filed 1-4-01; 2:26 pm]

BILLING CODE 7020-02-P